DEPARTMENT OF COMMERCE

National Oceanic and Atmospheric Administration

RIN 0648-XA721

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council), its Research Set-Aside (RSA) Committee, its Squid, Mackerel, Butterfish (SMB) Committee, its Executive Committee, and its Spiny Dogfish Committee will hold public meetings.

DATES: The meetings will be held Tuesday, October 11 through Thursday, October 13, 2011. See SUPPLEMENTARY INFORMATION for specific dates and times.

ADDRESSES: The meetings will be held at the Dolce Seaview, 401 South New York Road, Galloway, NJ 08205; telephone: (609) 652-1800.

Council address: Mid-Atlantic Fishery Management Council, 800 N. State St., Suite 201, Dover, DE 19901-3910; telephone: 302-674-2331.

FOR FURTHER INFORMATION CONTACT: Dr. Christopher Moore, Executive Director, Mid-Atlantic Fishery Management Council; telephone: (302) 674-2331 ext. 255.

SUPPLEMENTARY INFORMATION: On Tuesday, October 11, the RSA Committee will meet from 8:30 a.m. until 10:30 a.m. The SMB Committee will meet from 10:30 a.m. until 5 p.m. There will be a Public Listening Session from 5 p.m. until 6 p.m. On Wednesday, October 12, the Executive Committee will meet from 8:30 a.m. until 9:30 a.m. The Council will convene at 9:30 a.m. Swearing in of the new Council member will be from 9:30 a.m. until 9:45 a.m. From 9:45 a.m. until 11 a.m., SMB Amendment 14 DEIS Alternatives will be discussed. From 11 a.m. until 12 p.m., the Council will receive a Standardized Bycatch Reporting Methodology (SBRM) Report. Amendment 17 to the Summer Flounder, Scup, and Black Sea Bass Fishery Management Plan (FMP) will be discussed from 1 p.m. until 3 p.m. From 3 p.m. until 4:30 p.m., Spiny Dogfish Specifications will be approved as a Committee of the Whole. From 4:30 p.m. until 5:30 p.m., there will be a Scoping Presentation on Consolidation of the Highly Migratory Species (HMS) FMP. On Thursday, October 13, the Council will convene at 8:30 a.m. The RSA Program Review Report will be heard from 8:30 a.m. until 9:30 a.m. From 9:30 a.m. until 1 p.m., the Council will conduct its regular Business Session, receive Organizational Reports, Council Liaison Reports, Executive Director's Report, Science Report, Committee Reports, and any continuing and/or new business.

Agenda items by day for the Council's Committees and the Council itself are: On Tuesday, October 11, the RSA Committee will review the staff evaluation of the RSA Program and recommend changes to the RSA Program to address scientific and administrative issues. The SMB Committee will review Amendment 14 analyses and develop recommendations for preferred alternatives. On Wednesday, October 12, the Executive Committee will meet in a closed session to discuss the Ricks E Savage Award followed by the Council convening to swear in the new Council member. The Council will approve the SMB Amendment 14 document for public hearings. Dr. Paul Rago of NMFS will provide the Council with a report of the 3-year SBRM review. The Council will review draft alternatives of Amendment 17 to the Summer Flounder, Scup, and Black Sea Bass FMP to address spatial/regional management of the recreational black sea bass fishery. The Spiny Dogfish Committee will meet as a Committee of the Whole to review the SSC and the Spiny Dogfish Monitoring Committee recommendations for 2012 and adopt the recommendations for 2012 management measures. There will be a NMFS Scoping Presentation on the Consolidated HMS FMP. On Thursday, October 13, the Council will convene to discuss and adopt recommended changes to the RSA Program. The Council will hold its regular Business Session to approve the August 2011 minutes and address any outstanding actions from the August 2011 meeting, Organizational Reports, Liaison Reports, the Executive Director's Report, the Science Report, Committee Reports, and any continuing and/or new business.

Special Accommodations

This meeting is physically accessible to people with disabilities. Requests for sign language interpretation or other auxiliary aid should be directed to M. Jan Saunders, (302) 526-5251 at least 5 days prior to the meeting date.

Dated: September 19, 2011.
Tracey L. Thompson,
Acting Director, Office of Sustainable Fisheries, National Marine Fisheries Service.

[FR Doc. 2011-24355 Filed 9-21-11; 8:45 am]

BILLING CODE 3510-22-P